DEPARTMENT OF ENERGY

10 CFR 951

[Docket Number DOE-HQ-2014-0021]

RIN 1990-AA39

Convention on Supplementary Compensation for Nuclear Damage Contingent Cost Allocation

AGENCY: Office of General Counsel, U.S. Department of Energy.

ACTION: Notice of Public Meeting.

SUMMARY: This notice provides information on a public workshop, scheduled for February 20, 2015, that will discuss the U.S. Department of Energy's December 17, 2014 notice of proposed rulemaking to establish a retrospective risk pooling program under section 934 of the Energy Independence and Security Act of 2007. There will be an opportunity for public comment before and after the public workshop.

DATES: DOE will hold a public workshop on February 20, 2015 from 9 a.m. to 5 p.m. in Washington, DC. DOE will accept comments, data, and information on the December 17, 2014 notice of proposed rulemaking (NOPR) (79 FR 75076) before and after the public workshop, but no later than March 17, 2015, which is the close of the comment period on the NOPR.

ADDRESSES: The public workshop will be held at the U.S. Department of Energy, Forrestal Building, Room 1E-245, 1000 Independence Avenue SW., Washington, DC 20585-0121. The workshop can also be attended via webinar. For details regarding attendance at the workshop or webinar see the Public Participation section of this notice.

Any comments submitted on the proposed rulemaking must identify the NOPR for the Convention on Supplementary Compensation for Nuclear Damage Contingent Cost Allocation and provide docket number DOE-HQ-2014-0021 and/or regulatory information number (RIN) 1990-AA39. Comments may be submitted using any of the following methods:

1. Federal eRulemaking Portal: www.regulations.gov Follow the instructions for submitting comments.

2. Email: Section934Rulemaking@Hq.Doe.gov

3. Mail: Ms. Sophia Angelini, U.S. Department of Energy, Office of General Counsel, Mailstop GC-72, Section 934 Rulemaking, 1000 Independence Avenue SW., Washington, DC 20585. Please submit one signed original and three copies of all comments submitted by mail.

Docket: For access to the docket to read background documents or comments received, go to the Federal eRulemaking Portal at http://www.regulations.gov, or the Web site specifically established for this proceeding: http://www.energy.gov/gc/convention-supplementary-compensation-rulemaking.

FOR FURTHER INFORMATION CONTACT: Sophia Angelini, Attorney-Adviser, Office of General Counsel for Civilian Nuclear Programs, GC-72, U.S. Department of Energy, 1000 Independence Avenue SW., Washington, DC 20585; Telephone (202) 586-0319.

SUPPLEMENTARY INFORMATION:

Public Participation

A. Attendance at Public Workshop

If you plan to attend the public workshop, please notify Ms. Brenda Edwards at (202) 586-2945 or by email: Brenda.Edwards@ee.doe.gov. Please note that foreign nationals visiting DOE Headquarters are subject to advance screening procedures which require advance notice prior to attendance at the public meeting. If a foreign national wishes to participate in the public meeting, please inform DOE of this fact as soon as possible by contacting Ms. Brenda Edwards at (202) 586-2945 or by email to Brenda.Edwards@ee.doe.gov so that the necessary procedures may be implemented.

Due to the REAL ID Act implemented by the Department of Homeland Security (DHS), there have been recent changes regarding ID requirements for individuals wishing to enter Federal buildings from specific states and U.S. territories. Drivers' licenses from the following states or territory will not be accepted for building entry and one of the alternate forms of ID listed below will be required. DHS has determined that regular drivers' licenses (and ID cards) from the following jurisdictions are not acceptable for entry into DOE facilities: Alaska, American Samoa, Arizona, Louisiana, Maine, Massachusetts, Minnesota, New York, Oklahoma and Washington. Acceptable alternate forms of Photo-ID include: U.S. Passport or Passport Card; an Enhanced ID-Card issued by the states of Minnesota, New York, or Washington (Enhanced licenses issued by these states are clearly marked Enhanced or Enhanced Drivers' License); or a military ID or other Federal government issued Photo-ID card.

DOE requires visitors with laptop computers to be checked upon entry into the building. Any person wishing to bring these devices into the Forrestal Building will be required to obtain a property pass. Visitors should avoid bringing these devices, or allow an extra 45 minutes to check in. Please report to the Visitors' Desk to have these devices checked before proceeding through security.

In addition, you can attend the public workshop via webinar. Webinar information, participant instructions, and information about the capabilities available to webinar participants will be published on DOE's Web site specifically established for this proceeding at http://www.energy.gov/gc/convention-supplementary-compensation-rulemaking. Participants are responsible for ensuring their systems are compatible with the webinar software.

B. Conduct of Public Workshop

The Department will designate a DOE official to preside at the public workshop and may also use a professional facilitator to aid discussion. A court reporter will be present to record the proceeding and prepare a transcript. DOE reserves the right to schedule the order of presentations and to establish the procedures governing the conduct of the public workshop. Interested parties may submit comments on the proceedings and any aspect of the rulemaking at any point until the end of the comment period.

The meeting will be conducted in an informal, conference style. DOE will allow time for prepared general statements by participants, and encourage all interested parties to share their views on issues affecting this rulemaking. DOE also encourages participants to provide views and comments on the topics identified in section III of the NOPR, Issues on Which DOE Seeks Comment, or raised at the information session held on January 7, 2015. Each participant will be allowed to make a general statement (within time limits determined by DOE), before the discussion of specific topics. DOE will permit, as time allows, other participants to comment briefly on any general statements. At the end of all prepared statements on a topic, DOE will permit participants to clarify their statements briefly and comment on statements made by others. Participants should be prepared to answer questions by DOE and by other participants concerning these issues. DOE representatives may also ask questions concerning other matters relevant to this rulemaking. The official conducting the public meeting will accept additional comments or questions from those attending, as time permits. The presiding official will announce any further procedural rules or modification of the above procedures that may be needed for the proper conduct of the public meeting.

In addition, DOE will accept for consideration questions or suggestions on topics for comment in advance of the workshop, by February 10, 2015. DOE may use the questions or topic suggestions to structure the discussion and enhance participation. A transcript of the public meeting will be included in the docket, which can be viewed as described in the Docket section of this notice.

C. Procedure for Submitting Prepared General Statements and Suggested Topics

Persons who plan to present a prepared general statement may request that copies of the statement be made available at the public workshop. Such persons may submit requests, along with an advance electronic copy of their statement in PDF to the appropriate address shown in the ADDRESSES section of this notice. The request and advance copy of statements must be received at least one week before the public meeting and may be emailed, or sent by mail. DOE prefers to receive requests and advance copies via email. Please include a telephone number to enable DOE staff to make a follow-up contact, if needed.

Persons who plan to submit questions and topic suggestions for the meeting must do so by February 10, 2015, via email or by mail, to the appropriate address shown in the ADDRESSES section of this notice. DOE prefers to receive the requests via email. Please include a telephone number to enable DOE staff to make a follow-up contact, if needed.

D. Submission of Comments

DOE will continue to accept comments, data, and information concerning this NOPR before and after the workshop, but no later than March 17, 2015. Interested parties may submit comments using any of the methods described in the ADDRESSES section of this notice.

Issued in Washington, DC, on January 21, 2015.
Samuel T. Walsh,
Deputy General Counsel for Energy Policy.

[FR Doc. 2015-01401 Filed 1-26-15; 8:45 am]

BILLING CODE 6450-01-P